DEPARTMENT OF HOMELAND SECURITY

Coast Guard

33 CFR Part 165

[Docket No. USCG-2010-0021]

RIN 1625-AA87

Security Zone; U.S. Coast Guard BSU Seattle, Pier 36, Seattle, WA; Correction

AGENCY: Coast Guard, DHS.

ACTION: Final rule; technical correction.

SUMMARY: The Coast Guard published a final rule in the Federal Register on August 31, 2010 which created a security zone around the U.S. Coast Guard Base Support Unit Seattle, Pier 36, on Elliot Bay in Seattle, WA. This correction document provides more precise coordinates to match the geographic description of the zone provided in the final rule to better depict the boundaries of the security zone for charting purposes. This document makes that change to the subject final rule security zone which, as described in the preamble of the final rule, extends from the north western tip of Pier 36 across the inlet to the south western tip of Pier 36, effectively closing off the access point such that unauthorized vessels are prohibited from entering the pier.

DATES: This amendment is effective on November 1, 2010 and is applicable beginning September 30, 2010.

FOR FURTHER INFORMATION CONTACT: If you have questions on this correction, call or e-mail LTJG Ashley M. Wanzer, Waterways Management Division, Coast Guard Sector Puget Sound; telephone 206-217-6175, e-mail SectorSeattleWWM@uscg.mil.

SUPPLEMENTARY INFORMATION: The Coast Guard published a document in the Federal Register of August 31, 2010, (75 FR 53195), which added 33 CFR 165.1334. The coordinates used in that section and in the preamble did not describe the security zone precisely enough for charting purposes. This document corrects that error.

The rule published on August 31, 2010, (75 FR 53195) contained inaccurate coordinates in § 165.1334(a). This correction document revises paragraph (a) to contain the correct coordinates.

List of Subjects in 33 CFR Part 165

Harbors, Marine safety, Navigation (water), Reporting and recordkeeping requirements, Security measures, Waterways.

Accordingly, the Coast Guard amends 33 CFR part 165 by making the following technical correction:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. In § 165.1334, revise paragraph (a) to read as follows:

§ 165.1334 Security Zone; U.S. Coast Guard BSU Seattle, Pier 36, Elliot Bay, Seattle, WA.

(a) Location. The following area is a security zone: All waters in Elliot Bay east of a line from 47°35′26.67″ N 122°20′34.84″ W to 47°35′23.69″ N 122°20′34.77″ W at Pier 36, Elliot Bay, Seattle, WA.

* * * * *

Dated: September 29, 2010.
S.J. Ferguson,
Captain, U.S. Coast Guard, Captain of the Port, Puget Sound.

[FR Doc. 2010-27480 Filed 10-29-10; 8:45 am]

BILLING CODE 9110-04-P